DEPARTMENT OF THE TREASURY

Internal Revenue Service

26 CFR Part 1

[TD 9338]

RIN 1545-BE47

Information Returns Required With Respect to Certain Foreign Corporations and Certain Foreign-Owned Domestic Corporations; Correction

AGENCY: Internal Revenue Service (IRS), Treasury.

ACTION: Final regulations; correction.

SUMMARY: This document contains a correction to final regulations (TD 9338) that were published in the Federal Register on Friday, July 13, 2007 (72 FR 38475) providing guidance under sections 6038 and 6038A of the Internal Revenue Code. The final regulations clarify the information required to be furnished regarding certain related party transactions of certain foreign corporations and certain foreign-owned domestic corporations.

DATES: The correction is effective September 12, 2007.

FOR FURTHER INFORMATION CONTACT: Kate Y. Hwa at (202) 622-6070 (not a toll-free number).

SUPPLEMENTARY INFORMATION:

Background

The final regulations that are the subject of the correction are under Sections 6038 and 6038A of the Internal Revenue Code.

Need for Correction

As published, final regulations (TD 9338) contain an error that may prove to be misleading and is in need of clarification.

Correction of Publication

Accordingly, the publication of the final regulations (TD 9338), which were the subject of FR Doc. E7-13587, is corrected as follows:

On page 38475, in the document heading, the language “RIN 1545-BG11” is corrected to read “RIN 1545-BE47.”

LaNita Van Dyke,
Chief, Publications and Regulations Branch, Legal Processing Division, Associate Chief Counsel (Procedure and Administration).

[FR Doc. E7-17820 Filed 9-11-07; 8:45 am]

BILLING CODE 4830-01-P